DEPARTMENT OF LABOR

Employment and Training Administration

Solicitation for Technical Assistance and Training Grants Employment and Training Administration, U.S. Department of Labor

ACTION: Notice of Solicitation for Grant Applications (SGA) for training and capacity building of case management system staff of grantees for the National Farmworkers Jobs Program (NFJP); Capacity Building of Service Delivery Staff.

SUMMARY: The U.S. Department of Labor (DOL), Employment and Training Administration (ETA) announces a Solicitation for Grant Applications (SGA) to create staff development opportunities for National Farmworkers Jobs Program grantees.

This notice contains all of the necessary information and forms needed to apply for grant funding.

DATES: The closing date for receipt of applications for grant awards shall be October 31, 2000 by 4 p.m. eastern standard time. No exceptions to the mailing and hand-delivery conditions will be granted. Applications that do not meet the conditions set forth in this notice will not be considered. Tele facsimile (FAX) applications will not be honored.

ADDRESSES: Applications shall be mailed or hand-delivered to: U.S. Department of Labor, Employment and Training Administration, Division of Federal Assistance, Attention: Lorraine Saunders, 200 Constitution Avenue, NW, Room S-4203; Washington, DC 20210. Reference: SGA/DFA-00-112.

FOR FURTHER INFORMATION CONTACT: Fax questions to Lorraine Saunders, Division of Federal Assistance at (202) 219-8698, ext. 145. This is not a toll-free number. All inquiries sent via fax should include the SGA number (DFA-00-112) and a contact name, fax and phone number. This solicitation will also be published on the Internet on the Employment and Training Administration's Home Page at http://doleta.gov. Award notifications will also be published on this Homepage.

Part I. Introduction

The purpose of these funds is for training and staff development activities, of the service delivery system staff, that would not otherwise be performed by the NFJP grantee. Emphasis should be placed on the training needs of staff who work directly with WIA § 167 migrant and seasonal farm workers (MSFW), such as case management, outreach, intake, and other staff who interact directly with WIA § 167 clients. This SGA encourages strategies to utilize grantee focused staff training approaches and discourages large conference type approaches. To the extent possible, training options are local focused and will use local resources.

The proposal must consist of four (4) Sections covering the applicants understanding of the requirement: Proposed Training Module(s) and Strategy (Section 1), Expected outcomes (Section 2), Consortium Arrangement (Section 3), and Proposed Budget (Section 4). Any pertinent Attachments may be included in (Section 5), which is optional.

For rating purposes, each of the first four sections is assigned a number of possible points, and the sum of the maximum possible points for the four sections total 100. The most heavily weighted criteria is Section 2, which covers the expected outcome.

Authority

Section 167 (§ 669.110) of WIA authorizes the Department to provide funds for capacity enhancement as part of technical assistance activities provided to grantees. The MSFW program has an established record of support for grantee staff development and training funded from the discretionary budget allocated to the MSFW program.

Eligible Applicants

DSFP has long supported a peer-to-peer approach in the delivery of training within the NFJP community. This SGA thus seeks to use grantee supported consortiums to ensure a grantee focused training strategy. The following organizations are eligible to apply:

(1) Non-profit (501C-3) associations/organizations of NFJP grantees;

(2) Consortiums of cooperating NFJP grantees serving a specific regional geographic area.

Funding

The Department has reserved up to $500,000 nationally for this purpose. The final awards will attempt to include every NFJP service delivery area and it will promote capacity building of case management system through staff development.

Grant Duration and Period of Performance

The Department anticipates that grants will be funded for one year with an option to extend for one additional year, as necessary. The period of performance is expected to commence during December, 2000.

Part II. Application Process and Guidelines

Submission of the Grant Application Package

In accordance with the requirements above, applicants must also submit an original and three (3) copies of their proposal, with original signatures.

Applications must be mailed no later than five (5) days prior to the closing date for the receipt of applications. However if applications are hand-delivered, they must be received at the designated place by 4:00 p.m., Eastern Time on October 31, 2000, the closing date for receipt of applications. All overnight mail will be considered to be hand-delivered and must be received at the designated place by the specified time and closing date. Telegraphed and/or faxed proposals will not be honored. Applications that fail to adhere to the above instructions will not be honored.

Late Applications

Any application received at the office designated in the solicitation after the exact time specified for receipt will not be considered unless it

(a) Was sent by U.S. Postal Service registered or certified mail not later than the fifth calendar day before the closing date specified for receipt of applications (e.g. an offer submitted in response to a solicitation requiring a receipt of application by the 30th of January must have been mailed by the 25th): or

(b) Was sent by U.S. Postal Service Express Mail Next Day Service—Post Office to Addressee, not later than 5 p.m. at the place of mailing two working days prior to the date specified for receipt of application. The term “working days” excludes weekends and U.S. Federal holidays.

The only acceptable evidence to establish the date of a late application sent by U.S. Postal Service registered or certified mail is the U.S. postmark on the envelope or wrapper and on the original receipt from the U.S. Postal Service. Both postmarks must show a legible date or the proposal will be processed as if it had been mailed late. “Postmark” means a printed, stamped, or otherwise placed impression (exclusive of a postage meter machine impression) that is readily identifiable without further action as having been applied or affixed by an employee of the U.S. Postal Service on the date of mailing. Therefore, applicants should request the postal clerk to place a legible hand cancellation “bulls eye” postmark on both the receipt and the envelope or wrapper.

The only acceptable evidence to establish the date of mailing of a late application sent by “Express Mail Next Day Service—Post Office to Addressee” is the date entered by the post office receiving clerk on the Express Mail Next Day—Post Office to Addressee label and the postmarks on both the envelope and the wrapper and the original receipt from the U.S. Postal Service. “Postmark” has the same meaning as defined above. Therefore, an applicant should request the postal clerk to place a legible hand cancellation “bulls eye” postmark on both the receipt and the envelope or wrapper.

Withdrawal of Applications

Applications may be withdrawn by written notice or telegram (including mailgram) received at any time before award. Applications may be withdrawn in person by the applicant or by an authorized representative thereof, if the representative's identity is made known and the representative signs a receipt for the proposal.

Grant Application Package

The grant application package must consist of:

(1) The proposal shall contain the Standard Form (SF) 424, “Application for Federal Assistance” (Appendix A). All copies of the (SF) 424 must have original signatures of the legal entity applying for grant funding. Applicants shall indicate on the (SF) 424 the organization's IRS status, if applicable. According to the Lobbying Disclosure Act of 1995, Section 18, an organization described in section 501(c)(4) of the Internal Revenue Code of 1986 which engages in lobbying activities is not eligible for the receipt of federal funds constituting an award, grant, or loan.

(2) A certification prepared within the last six months, attesting to the adequacy of the entity's fiscal management and accounting systems to account for and safeguard Federal funds properly. The Certification should be obtained as follows:

(a) For incorporated organizations, a certification from a Certified Public Accountant; or

(b) for a public agency, a certification by its Chief Financial Officer;

(3) A statement indicating the entity's legally constituted authority under which the organization functions. A nonprofit organization should submit a copy of its Charter or Articles of Incorporation, including proof of the organization's nonprofit status;

(4) The applicant's employer identification number (EIN) issued by the Internal Revenue Service;

(5) Applications from a Consortium of organizations must include a copy of the Consortium agreement and must identify the consortium which will act as the administrative entity for the project. The agreement must include stated arrangements for administrative and financial responsibility that are acceptable to the Grant Officer.

(6) Budget Information Sheet with a narrative description of each line item. (Attached)

(7) Copy of most current Indirect Cost Rate Agreement issued by the cognizant federal agency, if applicable.

(8) the entity's application for grant funding as described below:

Format of the Grant Application Package

The grant proposal text is limited to 30 double-spaced, single-side, numbered 8½″ × 11″ pages, in 12-point type and having margins measuring at least one inch (Page numbers may be placed within the margin space.) This includes attachments.

To ensure full consideration, the application must follow the numerical sequence of the Sections 1 through 4 as listed below, and must include a table of contents. All attachments are to be included in Section 5. Credit may not be afforded in instances where items are not addressed in the proper section.

Contents of the Grant Application

All grant proposals accepted for consideration must be prepared in accordance with the requirements set forth below.

Section 1. Proposed Training Module(s) and Strategy

The applicant must describe the proposed area of service and the training strategy/approach in response to the staff training needs within the identified area. The design proposed must be one that will bring a local focus on training NFJP case management system staff.

Address identified needs: The proposal must identify specific challenges and staff training needs to be addressed.

Incorporate a Design Characteristics: Training strategies/approaches must respond to the identified needs and should be designed to incorporate at least one of the following characteristics for purposes of regional application.

• Ease of portability.

• Ease of replicability.

• Flexibility (use of optional learning styles).

• Credentialing development through an accredited institution.

Rating basis for Part II, Section 1: 25 points. Scoring will be based on the strength of the design and strategies proposed to:

• Respond to the identified training needs;

• Incorporate at least one design characteristic

• Meet the training needs of the identified geographic area; and, sbull The capacity of its delivery approach/design to successfully implement the training.

Section 2. Expected Outcomes

This section should describe the expected outcomes and benefits to be gained by the participating program staff and how the proposal is designed to deliver those outcomes. The proposed training strategy and design must include at least two knowledge and skills area. Training may include, but is not limited to, any of the following and other areas as identified by the proposer and relevant to the delivery of the NFJP.

• Developing staff knowledge and skills for managing of clients' Individual Service Strategies (e.g. developing interviewing skills, building trust, making objective assessments through evaluation and testing, etc.);

• The case management process and needed associated skills. (e.g. developing and monitoring appropriate training activities, determining appropriate referrals and other intervention point);

• WIA One-Stop System Partnerships (including cross training, client advocacy skills, building community support for the NFJP program and farmworkers);

• Building resources for NFJP grantee case management systems.

• Other identified training needs such as credentialed training (relevant to NFJP), use of technology.

Rating basis for Part II, Section 2: 60 points. This section will be scored based on how capacity of participating staff would be enhanced via the proposed training and training method, and capacity of the training modules to be a replicable, potable, comprehensive and consistent approach to capacity enhancement of skills for staff in the identified service area.

Section 3. Consortium Arrangement

For purposes of this proposal, an acceptable consortium arrangement shall consist of three or more signatory eligible applicants, supported by a Consortium Working Agreement between all the cooperating parties under the proposed design. The agreement must designate one of the consortium's members as the responsible administrative entity under the grant. Please:

• Identify each state service area and the respective NFJP grantee included in the composition of the regional area proposed to be served under this proposal (a state area may be included in only one proposed regional service area/consortium agreement);

• Identify by number and job title (e.g.: 3 case managers), the estimated staff which will participate in the proposed training (cumulative for the regional area included in this proposal);

Rating basis for Part II, Section 3: 10 points. The scoring will be based on the demonstrated capacity of the agreements to sustain the training strategy.

Section 4. Budget

Please submit a proposed budget for costs associated with the proposed training strategy. Administrative costs for purposes of the project are limited to 10% of total costs. Include a narrative explanation for how proposed costs are determined.

Rating basis for Part II, Section 4: 5 points. The scoring will be based on the demonstrated reasonableness of the budget request relative to the proposed training and area to be served.

Section 5: Attachments

All attachments referenced in the proposal are to be included in this section of the proposal. The first page in this section should itemize the included attachments.

Part III. Review Process of Grant Application

Panel Review

The Grant Officer will select potential grantees utilizing all information available to him/her. A technical review panel will rate each proposal using the specified criteria cited above. Panel results are advisory in nature and are not binding on the Grant Officer.

The Grant Officer may, at his or her discretion, request an applicant to submit additional or clarifying information if deemed necessary to make a selection. However, selections may be made without further contact with the applicants.

Responsibility Review

Prior to awarding a grant to any applicant, the Department will conduct a responsibility review. The responsibility review is an analysis of available information and records to determine if an applicant has established a satisfactory history of accounting for Federal funds and property. The responsibility review is independent of the competitive process. Applicants failing to meet the requirements of this action may be disqualified for designation as a grantee without respect to their standing in the competitive process. An applicant that is not selected as a result of the Grant Officer's responsibility review will be advised of its appeal rights.

Notification of Non Selection

Any applicant that is not selected as a potential grantee, or that has its grant application denied in whole or in part by the Department for receipt of funds, will be notified in writing by the Grant Officer and will be advised of all appeal rights.

Notification of Selection

Applicants that are selected will be notified in writing by the Grant Officer. Formal designation as a grantee will be contingent on the successful negotiation of a grant agreement for the first year of operation

Part IV. Reporting Requirements

Activity Reporting

Grantees must provide a quarterly narrative statement describing the staff training and technical assistance activities obtained under the grant. Copies of all training modules and actual training curriculum delivered are to accompany each quarterly report.

Financial Reporting

Standard Form 269 or financial report is due to be reported 45 days following close of the grant activity.

Cost Flexibility and Limitations

(a) These grant funds are discretionary WIA § 167 funds earmarked for staff training and technical assistance and serving as a supplement to the grantee's on-going staff training activities. The administrative cost limitation applicable to the WIA § 167 employment and training grants also apply to these grants.

(b) Grant funds may be used for per diem and lodging costs as otherwise appropriate. Transportation will not be covered under these grants.

Signed at Washington, DC, on this 25th day of September 2000.
Lorraine H. Saunders,
Grant/Contracting Officer/DOL/ETA.

BILLING CODE 4510-30-P

[FR Doc. 00-25060 Filed 9-29-00; 8:45 am]

BILLING CODE 4510-30-C